DEPARTMENT OF HEALTH AND HUMAN SERVICES

Office of the Secretary

Office of Public Health and Science, Office of Minority Health; Privacy Act of 1974; Report of a New System of Records

AGENCY: Department of Health and Human Services, Office of the Secretary, Office of Public Health and Science, Office of Minority Health.

ACTION: Notice of a new Privacy Act System of Records (SOR).

SUMMARY: In accordance with the requirements of the Privacy Act, OMH proposes to establish a new system of records entitled, “Minority Health Information Service.” Under provisions of 42 U.S.C. sec. 300u-6, the Office of Minority Health (OMH) is charged with maintaining a national minority health resource center to (1) Facilitate exchange of and access to information related to health information, promotion, services and education; (2) assist in analysis of issues and problems with regard to such matters; and (3) provide technical assistance with regard to the exchange of such information. The primary purpose of this system is to collect and facilitate distribution of minority health information to public and professional audiences. In support of this purpose, this system maintains individually identifiable information concerning individuals voluntarily participating in OMH health campaigns and technical assistance programs, and concerning information requested by individually identifiable customers that is maintained to facilitate order tracking and customer service.

DATES: Effective Dates: This notice will become effective 30 days from the date of publication of the notice unless modified by a subsequent notice making changes in response to public comments. Although the Privacy Act requires only that OMH provide an opportunity for interested persons to comment on the proposed routine uses, OMH invites comments on all portions of this notice.

FOR FURTHER INFORMATION CONTACT: Blake Crawford, Director, Division of Information and Education, Office of Minority Health, 1101 Wootton Parkway, Suite 600, Rockville, MD 20852. He can be reached by telephone at 240-453-6905 or via e-mail at blake.crawford@hhs.gov.

SUPPLEMENTARY INFORMATION: Generally, OMH distributes a variety of information via e-mail newsletter, maintains a Resource Persons Network of public and private health experts, plans and implements health campaigns and leads national initiatives with federal and nonfederal partners, conducts leadership development programs, provides capacity development and technical assistance services to community organizations and government agencies and provides information, literature and statistical data in response to public inquiries. The Minority Health Information Service supports the mission of the OMH Resource Center (OMHRC) to function as a help desk and technical assistance service for the public and an organization that assists OMH in implementing national initiatives and campaigns. The Minority Health Information Service stores data on individuals who ask, via telephone, mail, e-mail, Web form, face to face encounter or other means, to participate in or be regularly informed of these OMH activities. The resource center is managed under contract to OMH, and its offices are located on the same floor of the same building as OMH.

I. Description of the Proposed System of Records

A. Statutory Basis: The statutory basis for the maintenance of this system is 42 U.S.C. 300u-6.

B. Security Classification: None.

C. System Location: The system is located at OMHRC, 1101 Wootton Parkway, Suite 650, Rockville, MD 20852 and OMH, 1101 Wootton Parkway, Suite 600, Rockville, MD 20852.

D. Purpose: The purpose of the system is to (1) Identify individuals who have volunteered to provide pro bono technical assistance to community organizations or government agencies on aspects of minority health; (2) identify key officials at national, state, regional and local organizations who serve as public points of contact for that organization or work specifically on minority health issues; and (3) allow the OMH Resource Center contractor to operate, maintain and safeguard the data system.

E. Categories of Individuals Covered by the System:

Information is collected on members of the general public, health professionals, faculty of academic institutions, students, representatives of government agencies, community organizations and private businesses who seek health information from OMH or its Resource Center, and those who ask to or agree to participate in OMH-sponsored health programs.

The system of records includes the following subsystems:

1. Mailing List: Individuals who have asked to receive OMH's electronic newsletter and intermittent e-mail updates.

2. Resource Persons Network: Individuals with health expertise who have volunteered to provide some pro bono technical assistance to community organizations of government agencies working on aspects of minority health.

3. Training Institute File: Individuals who have applied to and are participating in a leadership development course for emerging and future leaders of community organizations.

4. Campaign File: Individuals who have volunteered to participate in an OMH campaign, currently comprising individuals who have volunteered to train peers on healthy living and pre-conception care.

5. Organizational Databases: Business contact information for official representatives of organizations working on minority health or participating in OMH initiatives, along with organizational descriptions.

6. Inquiry Tracking System: Details, by customer name, of information requests directed to OMH Resource Center and data on fulfillment of these requests.

F. Information Collected:

The following information is collected.

1. Mailing List: Name, business address, organizational affiliation, telephone, and e-mail.

2. Resource Persons Network, Training Institute File, Campaign File: Name, business address, organizational affiliation, title, telephone, e-mail, fax, resume, race/ethnicity, areas in which individual offers expertise, health topics or populations with which the individual wishes to work.

3. Organizational Databases: Name of organization and key contact person, business address, telephone, e-mail, Web site URL, description of organization.

4. Inquiry Tracking System: Name of requestor, organizational affiliation, business address, telephone, e-mail, fax, occupational category (health professional, academic, etc.), source of referral, information requested, fulfillment details (date shipped, etc.).

G. Sources of Information: Information is collected via mail, e-mail, Web form, telephone or in person at conferences and meetings from individuals who receive some type of communication from OMH. Listings in the organizational database are generally drawn from publicly available documents such as directories, newsletters, and organizational Web sites and are confirmed through direct contact with the organization. Names of contact individuals at organizations partnering with OMH on an initiative, project or campaign are provided by the organization.

H. Storage and Retrievability:

Records are stored in file folders, electronic media and other types of data storage devices.

Data are retrievable by name, business address, telephone, e-mail, organizational affiliation, and type of technical assistance provided (for the Resource Persons Network).

I. System Manager and Address: Director, Division of Information and Education, Office of Minority Health, 1101 Wootton Parkway, Suite 600, Rockville, MD 20852.

J. Notification Procedure: To determine whether the system contains a record on you, please write to the system manager at the address above, providing name, address, e-mail, telephone and organizational affiliation.

K. Contesting Records: Mailing list members may unsubscribe from the mailing list or correct their entry by clicking on a link in an e-mail received from the system. Unsubscribing will remove subscriber information from the system. For all other deletions and corrections, please write, call, e-mail or fax Office of Minority Health Resource Center, 1101 Wootton Parkway, Suite 650, Rockville, MD 20852, telephone 800-444-6472, e-mail info@omhrc.gov, fax 240-453-2883. The identity of the requestor will be verified by comparison with information contained in the existing record. An individual may request accounting of disclosures outside the department. The right to contest records is limited to information that is incomplete, irrelevant, incorrect, or untimely.

II. Agency Policies, Procedures, and Restrictions on Routine Uses

The Privacy Act permits the disclosure of information without an individual's consent if the information is used for a purpose that is compatible with the purpose(s) for which the information was collected. Any such disclosure of data is known as “routine use.” OMH maintains the following procedures for the maintenance of personally identifiable information:

A. We will only release information from this system as provided for under “Section III. Routine Uses of Records.”

B. We will only collect the minimum data necessary to achieve the purpose of the Minority Health Information Service.

C. We will collect and disclose only data that OMH has determined to be accurate.

D. We will validate information in the system annually, and as corrections are received from the public.

E. We will provide opportunities and methods for individual correction of data in the system consistent with requirements of the Privacy Act.

F. We will publish on the OMH Web site our Privacy Policy for information collected via this Web site.

III. Routine Uses of Records

1. To identify one or more individuals who have volunteered to provide pro bono technical assistance to a community organization or government agency on aspects of minority health in response to a specific request for assistance. OMHRC staff provide one or more names and associated contact information to requesting organizations when OMHRC staff finds a match between an assistance request and a Resource Persons Network member with relevant expertise, experience and background, and when the request matches the activities, health topics, or populations for which the network member has specified that he or she is available to assist.

2. To identify key officials at national, state, regional and local organizations who serve as public points of contact for that organization or its work specifically on minority health. Information searches are provided on request. Contact information for OMH campaign and initiative partners may be posted on the OMH Web site.

3. To allow the OMH Resource Center contractor to operate this data system. OMH uses a contractor to operate the OMH Resource Center, which maintains the Minority Health Information Service. This contractor collects the information, maintains the data system and safeguards the data under the provisions outlined in this notice and applicable law and regulation. The contractor is prohibited from using these data for any purpose other than described in the contract and is required to return all data to the government or deliver it securely to a government-designated successor contractor, at the completion of the contract.

4. To appropriate Department contractors to enable conduct of evaluation studies or administration of OMB-approved customer satisfaction surveys.

5. To appropriate federal agencies and Department contractors that have a need to know the information for the purpose of assisting the department's efforts to respond to a suspected or confirmed breach of the security or confidentiality of information maintained in the system of records, and the information disclosed is relevant and necessary for the assistance.

6. To the Department of Justice, or in a proceeding before a court, adjudicative body, or other administrative body before which the Agency is authorized to appear, when:

a. The Agency, or any component thereof; or

b. Any employee of the Agency in his or her official capacity; or

c. Any employee of the Agency in his or her individual capacity where the Department of Justice or the Agency has agreed to represent the employee; or

d. The United States, if the Agency determines that litigation is likely to affect the Agency or any of its components, is a party to litigation or has an interest in such litigation, and the use of such records by the Department of Justice or the Agency is deemed by the Agency to be relevant and necessary to the litigation; provided, however, that in each case it has been determined that the disclosure is compatible with the purpose for which the records were collected.

IV. Protections and Safeguards

The system conforms to all applicable Federal laws and regulations and Federal and HHS policies and standards for information security and data privacy. The OMH system manager, OMHRC senior leadership and OMHRC technology manager confer to review and ensure compliance with provisions of this notice and any changes in security requirements.

A. Authorized Users

Records are available to the system manager and OMH staff when they have a need for the records in the performance of their duties. Records are also available to OMHRC technology staff, OMHRC director and deputy director, OMHRC communications staff, OMHRC information specialists (mailing list, organizational databases, inquiry tracking system), OMHRC knowledge center/library staff (organizational data bases and resource persons network), OMHRC data entry staff, who need access in order to perform their duties.

B. Safeguards

Data systems are in a secured office space with a carded entrance. Servers are located in a locked rack. Data are backed up nightly with a one-month daily snapshot available at any time and monthly snapshots for a year. Annual training is required and conducted for authorized users regarding proper handling and safeguarding of personally identifiable information. OMH and OMHRC staff are trained on HHS policies regarding personal use of health information technology.

V. Effects on Individual Rights

OMH proposes to establish this system in accordance with the principles and requirements of the Privacy Act and will collect, use, and disseminate information only as prescribed therein. Data in this system will be subject to authorized releases in accordance with the routine uses identified in this system of records.

OMH will take precautionary measures to minimize the risks of unauthorized access to the records and the potential harm to individual privacy or other personal property rights of individuals whose data are maintained in the system. OMH will collect only that information necessary to perform the system's functions. In addition, OMH will make disclosure from the system only with the consent of the subject individual, his or her legal representative, or in accordance with an applicable exception provision of the Privacy Act. OMH therefore does not anticipate an unfavorable effect on individual privacy as a result of information relating to individuals.

Date: March 22, 2010.
Garth N. Graham,
Deputy Assistant Secretary for Minority Health.

SYSTEM NO.:

09-90-0161

SYSTEM NAME:

“Minority Health Information Service,” HHS/OS/OPHS/OMH.

SECURITY CLASSIFICATION:

None.

SYSTEM LOCATION:

The system is located at OMHRC, 1101 Wootton Parkway, Suite 650, Rockville, MD 20852 and OMH, 1101 Wootton Parkway, Suite 600, Rockville, MD 20852.

CATEGORIES OF INDIVIDUALS COVERED BY THE SYSTEM:

Information is collected on members of the general public, health professionals, faculty of academic institutions, students, representatives of government agencies, community organizations and private businesses who seek health information from OMH or its Resource Center, and those who ask to or agree to participate in OMH-sponsored health programs.

CATEGORIES OF RECORDS IN THE SYSTEM:

The system of records includes the following subsystems:

7. Mailing List: Individuals who have asked to receive OMH's electronic newsletter and intermittent e-mail updates. Information collected: Name, business address, organizational affiliation, telephone, and e-mail.

8. Resource Persons Network: Individuals with health expertise who have volunteered to provide some pro bono technical assistance to community organizations of government agencies working on aspects of minority health. Information collected: Name, business address, organizational affiliation, title, telephone, e-mail, fax, resume, race/ethnicity, areas in which individual offers expertise, health topics or populations with which the individual wishes to work.

9. Training Institute File: Individuals who have applied to and are participating in a leadership development course for emerging and future leaders of community organizations. Information collected: Name, business address, organizational affiliation, title, telephone, e-mail, fax, resume, race/ethnicity, areas in which individual offers expertise, health topics or populations with which the individual wishes to work.

10. Campaign File: Individuals who have volunteered to participate in an OMH campaign, currently comprising individuals who have volunteered to train peers on healthy living and pre-conception care. Information collected: Name, business address, organizational affiliation, title, telephone, e-mail, fax, resume, race/ethnicity, areas in which individual offers expertise, health topics or populations with which the individual wishes to work.

11. Organizational Databases: Business contact information for official representatives of organizations working on minority health or participating in OMH initiatives, along with organizational descriptions. Information collected: Name of organization and key contact person, business address, telephone, e-mail, Web site URL, description of organization.

12. Inquiry Tracking System: Details, by customer name, of information requests directed to OMH Resource Center and data on fulfillment of these requests. Information collected: Name of requestor, organizational affiliation, business address, telephone, e-mail, fax, occupational category (health professional, academic, etc.), source of referral, information requested, fulfillment details (date shipped etc.).

AUTHORITY FOR MAINTENANCE OF THE SYSTEM:

The statutory basis for the maintenance of this system is 42 U.S.C. 300u-6.

PURPOSES OF THE SYSTEM:

The purpose of the system is to (1) Identify individuals who have volunteered to provide pro bono technical assistance to community organizations or government agencies on aspects of minority health; (2) identify key officials at national, state, regional and local organizations who serve as public points of contact for that organization or work specifically on minority health issues; and (3) allow the OMH Resource Center contractor to operate, maintain and safeguard the data system.

ROUTINE USES OF RECORDS MAINTAINED IN THE SYSTEM, INCLUDING CATEGORIES OF USERS AND THE PURPOSES OF SUCH USES:

7. To identify one or more individuals who have volunteered to provide pro bono technical assistance to a community organization or government agency on aspects of minority health in response to a specific request for assistance. OMHRC staff provide one or more names and associated contact information to requesting organizations when OMHRC staff finds a match between an assistance request and a Resource Persons Network member with relevant expertise, experience and background, and when the request matches the activities, health topics, or populations for which the network member has specified that he or she is available to assist.

8. To identify key officials at national, state, regional and local organizations who serve as public points of contact for that organization or its work specifically on minority health. Information searches are provided on request. Contact information for OMH campaign and initiative partners may be posted on the OMH Web site.

9. To allow the OMH Resource Center contractor to operate this data system. OMH uses a contractor to operate the OMH Resource Center, which maintains the Minority Health Information Service. This contractor collects the information, maintains the data system and safeguards the data under the provisions outlined in this notice and applicable law and regulation. The contractor is prohibited from using these data for any purpose other than described in the contract and is required to return all data to the government or deliver it securely to a government-designated successor contractor, at the completion of the contract.

10. To appropriate Department contractors to enable conduct of evaluation studies or administration of OMB-approved customer satisfaction surveys.

11. To appropriate federal agencies and Department contractors that have a need to know the information for the purpose of assisting the department's efforts to respond to a suspected or confirmed breach of the security or confidentiality of information maintained in the system of records, and the information disclosed is relevant and necessary for the assistance.

12. To the Department of Justice, or in a proceeding before a court, adjudicative body, or other administrative body before which the Agency is authorized to appear, when:

i. The Agency, or any component thereof; or

ii. Any employee of the Agency in his or her official capacity; or

iii. Any employee of the Agency in his or her individual capacity where the Department of Justice or the Agency has agreed to represent the employee; or

iv. The United States, if the Agency determines that litigation is likely to affect the Agency or any of its components, is a party to litigation or has an interest in such litigation, and the use of such records by the Department of Justice or the Agency is deemed by the Agency to be relevant and necessary to the litigation; provided, however, that in each case it has been determined that the disclosure is compatible with the purpose for which the records were collected.

POLICIES AND PRACTICES ON STORING, ACCESSING, RETRIEVING, AND DISPOSING OF RECORDS IN THE SYSTEM:

STORAGE:

Records are stored in file folders, electronic media and other types of data storage devices.

RETRIEVABILITY:

Data are retrievable by name, business address, telephone, e-mail, organizational affiliation, and type of technical assistance provided (for the Resource Persons Network)

PROTECTIONS:

The system conforms to all applicable Federal laws and regulations and Federal and HHS policies and standards for information security and data privacy. The OMH system manager, OMHRC senior leadership and OMHRC technology manager confer to review and ensure compliance with provisions of this notice and any changes in security requirements.

Records are available to the system manager and OMH staff when they have a need for the records in the performance of their duties. Records are also available to OMHRC technology staff, OMHRC director and deputy director, OMHRC communications staff, OMHRC information specialists (mailing list, organizational databases, inquiry tracking system), OMHRC knowledge center/library staff (organizational data bases and resource persons network), OMHRC data entry staff, who need access in order to perform their duties.

Data systems are in a secured office space with a carded entrance. Servers are located in a locked rack. Data are backed up nightly with a one-month daily snapshot available at any time and monthly snapshots for a year. Annual training is required and conducted for authorized users regarding proper handling and safeguarding of personally identifiable information. OMH and OMHRC staff are trained on HHS policies regarding personal use of health information technology.

RETENTION AND DISPOSAL:

1. Mailing List: Records are maintained until removed by the individual on whom information is maintained or until the individual requests removal.

2. Resource Persons Network: Records are maintained for as long as the individual indicates a willingness to serve as a Resource Person by responding affirmatively to update requests.

3. Training Institute File: Records are maintained for three years following the end of the specific training course.

4. Campaign File: Contact information on individuals is maintained for the duration of the campaign. Resumes are retained for one year.

5. Organizational Databases: Records are maintained until the organization about which information is maintained no longer works in minority health, or until the contact person for the organization changes.

6. Inquiry Tracking System: Records are maintained for three years following order fulfillment.

Records no longer maintained are disposed of by deletion from electronic media and shredding of hard copy records. Electronic records deleted from active files are maintained in system back-up files on tape media for one year.

SYSTEM MANAGER AND ADDRESS:

Director, Division of Information and Education, Office of Minority Health, 1101 Wootton Parkway, Suite 600, Rockville, MD 20852.

NOTIFICATION PROCEDURE:

To determine whether the system contains a record on you, please write to the system manager at the address above, providing name, address, e-mail, telephone and organizational affiliation.

RECORD ACCESS PROCEDURE:

To determine whether the system contains a record on you, please write to the system manager at the address above, providing name, address, e-mail, telephone and organizational affiliation.

CONTESTING RECORD PROCEDURES:

Contesting Records: Mailing list members may unsubscribe from the mailing list or correct their entry by clicking on a link in an e-mail received from the system. Unsubscribing will remove subscriber information from the system. For all other deletions and corrections, please write, call, e-mail or fax Office of Minority Health Resource Center, 1101 Wootton Parkway, Suite 650, Rockville, MD 20852, telephone 800-444-6472, e-mail info@omhrc.gov, fax 240-453-2883. The identity of the requestor will be verified by comparison with information contained in the existing record. An individual may request accounting of disclosures outside the department. The right to contest records is limited to information that is incomplete, irrelevant, incorrect, or untimely.

RECORDS SOURCE CATEGORIES:

Information is collected via mail, e-mail, Web form, telephone or in person at conferences and meetings from individuals who receive some type of communication from OMH. Listings in the organizational database are generally drawn from publicly available documents such as directories, newsletters, and organizational Web sites and are confirmed through direct contact with the organization. Names of contact individuals at organizations partnering with OMH on an initiative, project or campaign are provided by the organization.

SYSTEMS EXEMPTED FROM CERTAIN PROVISIONS OF THE ACT:

None.

[FR Doc. 2010-8413 Filed 4-12-10; 8:45 am]

BILLING CODE 4150-29-P